DEPARTMENT OF COMMERCE

International Trade Administration

(C-428-829); (C-421-809); (C-412-821)

Rescission of Countervailing Duty Administrative Reviews: Low Enriched Uranium from Germany, the Netherlands, and the United Kingdom

AGENCY: Import Administration, International Trade Administration, Department of Commerce.

SUMMARY: On April 5, 2006, the Department of Commerce (the Department) initiated administrative reviews of the countervailing duty (CVD) orders on low enriched uranium (LEU) from Germany, the Netherlands, and the United Kingdom (UK) for the period January 1, 2005, through December 31, 2005. See Initiation of Antidumping and Countervailing Duty Administrative Reviews and Deferral of Administrative Reviews, 71 FR 17077 (April 5, 2006) (Initiation Notice). The Department is now rescinding the administrative reviews for the 2005 period of review (POR) because these CVD orders have been revoked subsequent to the initiation of these reviews. See Low Enriched Uranium from Germany, the Netherlands, and the United Kingdom: Final Results of Countervailing Duty Administrative Reviews and Revocation of Countervailing Duty Orders, 71 FR 38626 (July 7, 2006) (Revocation Notice).

EFFECTIVE DATE: July 28, 2006.

FOR FURTHER INFORMATION CONTACT: Darla Brown, AD/CVD Operations, Office 3, Import Administration, U.S. Department of Commerce, Room 4012, 14th Street and Constitution Avenue, NW, Washington, DC 20230; telephone: (202) 482-2849.

SUPPLEMENTARY INFORMATION:

Background

On February 1, 2006, the Department published a notice of opportunity to request an administrative review of these CVD orders. See Antidumping or Countervailing Duty Order, Finding, or Suspended Investigation; Opportunity To Request Administrative Review, 71 FR 5239 (February 1, 2006). On February 27, 2006, we received a timely request for review of Urenco Deutschland GmbH of Germany, Urenco Nederland B.V. of the Netherlands, Urenco (Capenhurst) Limited of the UK, Urenco Ltd., Urenco Inc., and Urenco Enrichment Company Ltd. (collectively, the Urenco Group), the producers and exporters of the subject merchandise, from the United States Enrichment Corporation (USEC) and USEC Inc. On February 28, 2006, we received timely requests for review from the Urenco Group.

On April 5, 2006, the Department initiated administrative reviews of the CVD orders on LEU from Germany, the Netherlands, and the UK for the POR January 1, 2005, through December 31, 2005 with respect to Urenco. See Initiation Notice.

Scope of the Orders

The product covered by these orders is LEU. LEU is enriched uranium hexafluoride (UF6) with a U²³⁵ product assay of less than 20 percent that has not been converted into another chemical form, such as UO2, or fabricated into nuclear fuel assemblies, regardless of the means by which the LEU is produced (including LEU produced through the down-blending of highly enriched uranium).

Certain merchandise is outside the scope of these orders. Specifically, these orders do not cover enriched uranium hexafluoride with a U²³⁵ assay of 20 percent or greater, also known as highly enriched uranium. In addition, fabricated LEU is not covered by the scope of these orders. For purposes of these orders, fabricated uranium is defined as enriched uranium dioxide (UO2), whether or not contained in nuclear fuel rods or assemblies. Natural uranium concentrates (U3O8) with a U²³⁵ concentration of no greater than 0.711 percent and natural uranium concentrates converted into uranium hexafluoride with a U²³⁵ concentration of no greater than 0.711 percent are not covered by the scope of these orders.

Also excluded from these orders is LEU owned by a foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designed transporter(s) while in U.S. customs territory, and (ii) are re-exported within eighteen (18) months of entry of the LEU for consumption by the end-user in a nuclear reactor outside the United States. Such entries must be accompanied by the certifications of the importer and end-user.

The merchandise subject to these orders is currently classifiable in the Harmonized Tariff Schedule of the United States (HTSUS) at subheading 2844.20.0020. Subject merchandise may also enter under 2844.20.0030, 2844.20.0050, and 2844.40.00. Although the HTSUS subheadings are provided for convenience and customs purposes, the written description of the merchandise is dispositive.

Rescission of Countervailing Duty Administrative Reviews

On July 7, 2006, the Department revoked the CVD orders on LEU from Germany, the Netherlands, and the UK. See Revocation Notice.

Since the Department revoked the orders effective January 1, 2005, there is no basis for continuing the administrative reviews of these orders for the 2005 POR. Therefore, the Department hereby rescinds these administrative reviews of the CVD orders on LEU from Germany, the Netherlands, and the UK for the POR January 1, 2005, through December 31, 2005.

Instructions to U.S. Customs and Border Protection

Pursuant to sections 751(d)(2) and 751(d)(3) of the Tariff Act of 1930, as amended (the Act), and 19 CFR 351.222, the Department has instructed U.S. Customs and Border Protection (CBP) to terminate the suspension of liquidation and to liquidate, without regard to countervailing duties, all unliquidated entries of LEU from Germany, the Netherlands, and the UK, entered, or withdrawn from warehouse, for consumption on or after January 1, 2005, the effective date of the revocation of the orders. The Department has further instructed CBP to refund with interest any estimated duties collected with respect to unliquidated entries of LEU from Germany, the Netherlands, and the UK entered, or withdrawn from warehouse, for consumption on or after January 1, 2005, in accordance with section 778 of the Act.

Notification Regarding APO

This notice also serves as a reminder to parties subject to administrative protective order (APO) of their responsibility concerning the disposition of proprietary information disclosed under APO in accordance with 19 CFR 351.305, which continues to govern business proprietary information in this segment of the proceeding. Timely written notification of return/destruction of APO materials or conversion to judicial protective order is hereby requested. Failure to comply with the regulations and the terms of an APO is a sanctionable violation.

This notice is issued and published in accordance with section 777(i) of the Act and 19 CFR 351.213(d)(4).

Dated: July 21, 2006.
Stephen J. Claeys,
Deputy Assistant Secretary for Import Administration.

[FR Doc. E6-12122 Filed 7-28-06; 8:45 am]

BILLING CODE 3510-DS-S